DEPARTMENT OF JUSTICE

Notice of the Availability of the Record of Decision Concerning a Proposal To Develop a Federal Correctional Complex in the Aliceville, AL Area

AGENCY: U.S. Department of Justice, Federal Bureau of Prisons.

ACTION: Notice of a Record of Decision.

SUMMARY: Notice of the Availability of the Record of Decision.

The U.S. Department of Justice, Federal Bureau of Prisons (BOP) announces the availability of the Record of Decision (ROD) concerning the Final Environmental Impact Statement (EIS) for the proposed development of a Federal Correctional Complex (FCC) in the Aliceville, Alabama area.

Background Information

Pursuant to Section 102, 42 U.S.C. 4332, of the National Environmental Policy Act (NEPA) of 1969, as amended and the Council on Environmental Quality Regulations (40 CFR Parts 1500-1508), BOP has prepared Draft and Final EISs concerning a proposal to develop a FCC comprising one or more mini­mum-, medium-, and high-security correctional facilities. Initial development of the FCC would consist of a Federal Correctional Institution (FCI) to house approximately 1,500 adult inmates along with ancillary facilities including administrative structures, a prison industry facility, a satellite work camp to house approximately 250 adult inmates, and staff training facilities.

Project Information

The BOP is responsible for carrying out judgements of the Federal courts whenever a period of confinement is ordered. Subsequently, the mission of the BOP is to protect society by confining offenders in the controlled environments of prisons and community-based facilities that are safe, humane, cost-efficient, and appropriately secure, and that provide work and other self-improvement opportunities to assist offenders in becoming law-abiding citizens. Approximately 166,000 inmates are currently housed within the 114 federal correctional facilities that have levels of security ranging from minimum to maximum; a number exceeding the combined rated capacities of all federal correctional facilities. Measures being taken to manage the growth of the federal inmate population include acquisition and adaptation of facilities originally intended for other purposes, the expansion and improvement of existing correctional facilities, and the expanded use of contract beds together with construction of new institutions. Adding capacity through these means allows the BOP to work toward the long-term goal of reduced system-wide crowding. The BOP is facing an especially challenging situation in that the number of inmates originating from the southeastern United States has grown substantially. As a result, the BOP manages many inmates from the southeastern-most United States in facilities throughout the Southeast Region and beyond. Provision of additional bedspace in the Aliceville, Alabama area would allow the BOP to manage inmates originating from the southeastern-most states nearer their families and friends which aids in the rehabilitative process.

The proposed action in the Aliceville, Alabama area is part of the BOP's comprehensive expansion effort and would consist of the construction and operation of a FCC. The principal function of the FCC would be to provide a safe, secure, and humane environment for the care and custody of federal inmates, primarily from the southeastern region of the country. Development of the proposed facility will necessitate the acquisition of approximately 1,270 acres of land by the BOP.

The BOP evaluated alternatives as part of the EIS including the No Action Alternative, development of the proposed project at alternative locations nationwide, and development of the proposed project at one of two alternative sites located near the City of Aliceville in Pickens County, Alabama. Each of the alternative sites is examined in detail in the Draft and Final EISs with development of the proposed project at the North Site identified by the Draft and Final EISs as the Preferred Alternative.

The BOP issued a Draft EIS on October 20, 2007, with publication of the Notice of Availability (NOA) in the Federal Register on October 27, 2007. The NOA provided a start date for the 45-day public comment period beginning on October 27, 2007, and ending on December 10, 2007. During the public comment period a public hearing concerning the proposed action and the Draft EIS was held in Aliceville, Alabama on November 15, 2007. Approximately 214 individuals attended the public hearing.

The Final EIS addressed comments received on the Draft EIS, and publication of the NOA in the Federal Register concerning the Final EIS occurred on February 22, 2008. The 30-day review period for receipt of public comments concerning the Final EIS ended on March 24, 2008. Approximately 40 comment letters were received during the public review period on the Final EIS. Each of the comment letters were similar to comments received on the Draft EIS and were considered in the decision presented in the ROD.

BOP provided written notices of the availability of the Draft EIS and Final EIS in the Federal Register, in two newspapers with local and regional circulations, and through three local public libraries. The BOP also distributed approximately 200 copies (each) of the Draft EIS and Final EIS to federal agencies, state and local governments, elected officials, interested organizations, and individuals.

Availability of Record of Decision

The Record of Decision and other information regarding this project are available upon request. To request a copy of the Notice of Availability, please contact: Pamela J. Chandler, Chief, or Issac J. Gaston, Site Selection Specialist, Site Selection and Environmental Review Branch, Federal Bureau of Prisons, 320 First Street, NW., Washington, DC 20534 Tel: 202-514-6470/Fax: 202-616-6024/E-mail: pchandler@bop.govigaston@bop.gov.

FOR FURTHER INFORMATION CONTACT: Pamela J. Chandler, Issac J. Gaston, Federal Bureau of Prisons.

Dated: April 29, 2008.
Issac J. Gaston,
Site Selection Specialist, Site Selection and Environmental Review Branch.

[FR Doc. E8-9881 Filed 5-5-08; 8:45 am]

BILLING CODE 4410-50-P